DEPARTMENT OF LABOR

Employment and Training Administration

[TA-W-40,920]

Honeywell International, Elyria, Ohio; Notice of Termination of Investigation

Pursuant to section 221 of the Trade Act of 1974, an investigation was initiated on March 4, 2002 in response to a petition that filed on behalf of workers at Honeywell International, Elyria, Ohio.

The petitioner has requested that the petition be withdrawn. Consequently, further investigation in this case would serve no purpose, and the investigation has been terminated.

Signed in Washington, DC this 29th day of March 2002.
Linda G. Poole,
Certifying Officer, Division of Trade Adjustment Assistance.

[FR Doc. 02-9341 Filed 4-16-02; 8:45 am]

BILLING CODE 4510-30-M